DEPARTMENT OF ENERGY

Federal Energy Regulatory Commission

Notice of Scoping Meetings and Soliciting Scoping Comments

May 2, 2001.

Take notice the following hydroelectric application has been filed with the Commission and is available for public inspection:

a. Type of Application: New major license.

b. Project No.: P-2142-031.

c. Date filed: December 28, 1999.

d. Applicant: FPL Energy Maine Hydro, LLC.

e. Name of Project: Indian Pond Hydroelectric Project.

f. Location: On the Kennebec River, near the town of The Forks, Somerset and Piscataquis counties, Maine. The project would not utilize federal lands.

g. Filed Pursuant to: Federal Power Act, 16 U.S.C. 791(a)-825(r).

h. Applicant Contacts: Kenneth P. Hoffman, Vice President; FPL Energy Maine Hydro, LLC; 700 Universe Boulevard Juno Beach, FL 33408; (561) 694-4000 and Robert C. Richter III; Senior Environmental Coordinator; FPL Energy Maine Hydro, LLC; 100 Middle Street; Portland, ME 04101; (207) 771-3536.

i. FERC Contact: Kevin Whalen (202) 219-2790; email: kevin.whalen@ferc.fed.us.

j. Deadline for filing scoping comments: July 9, 2001.

All documents (original and eight copies) should be filed with: David P. Boergers, Secretary; Federal Energy Regulatory Commission; 888 First Street, NE., Washington, DC 20426. Comments, protests and interventions may be filed electronically via the internet in lieu of paper. See, 18 CFR 385.2001(a)(1)(iii) and the instructions on the Commission's web site at http://www.ferc.fed.us/efi/doorbell.htm.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

Protests, comments on filings, comments on environmental assessments and environmental impact statements, and reply comments may be filed electronically via the internet in lieu of paper. See 18 CFR 385.2001(a)(1)(iii) and the instructions on the Commission's web site at http://www.ferc.fed.us/efi/doorbell.htm.

k. Status of environmental analysis: This application is not ready for environmental analysis at this time.

l. Description of the Project: The proposed peaking project consists of the following existing facilities: (1) A 2,000-foot-long dam, consisting of (a) a 270-foot-long, 175-foot-high concrete section, (b) a 200-foot-long attached powerhouse section, and (c) an earthen section in excess of 1,500 feet in length; (2) four steel penstocks ranging from 6 feet to 24 feet in diameter; (3) a concrete powerhouse containing four generating units, having a total rated hydraulic capacity of 7,140 cubic feet per second and installed generation capacity of 76.4 megawatts (4) a 3,746-acre impoundment varying in width from 0.9 to 1.5 miles, extending about 9 miles upstream, that has a usable storage capacity of 850 million cubic feet; and (5) appurtenant facilities. The applicant estimates the total average annual generation would be approximately 202 million kilowatt hours.

m. Locations of the application: A copy of the application is available for inspection and reproduction at the Commission's Public Reference Room, located at 888 First Street, NE, Room 2A, Washington, DC 20246, or by calling (202) 208-1371. The application may be viewed on the web at http://www.ferc.fed.us/online/rims.htm (call (202) 208-2222 for assistance). A copy is also available for inspection and reproduction at the address in item h. above.

n. Scoping Process

The Commission intends to prepare an Environmental Assessment (EA) on the project in accordance with the National Environmental Policy Act. The EA will consider both site-specific and cumulative environmental impacts and reasonable alternatives to the proposed action.

Scoping Meetings

The Commission will hold scoping meetings, one in the evening and one in the daytime, to help us identify the scope of issues to be addressed in the EA.

The evening scoping meeting is primarily for public input and the daytime scoping meeting will focus on resource agency concerns. All interested individuals, organizations, and agencies are invited to attend one or both of the meetings, and to assist the staff in identifying the scope of the environmental issues that should be analyzed in the EA. The times and locations of these meetings are as follows:

Evening Scoping Meeting

Date: June 6, 2001

Time: 7:00 to 9:00 pm

Place: The Forks Town Hall, US Route 201, The Forks, Maine

Daytime Scoping Meeting

Date: June 7, 2001

Time: 10:00 am to 12:00 pm

Place: Best Western Senator Inn (Embassy Room), 284 Western Avenue at I-95, Augusta, Maine

Individuals needing directions to the scoping meetings should contact Mr. Robert Richter, FPL Energy Maine Hydro, LLC, at (207) 771-3536. Commission staff previously conducted a site visit of the Indian Pond Hydroelectric Project on September 28 and 29, 2000. No additional site visit is planned at this time.

To help focus discussions, we will distribute a Scoping Document (SD1) outlining the subject areas to be addressed in the EA to the parties on the Commission's mailing list. Copies of the SD1 also will be available at the scoping meeting.

Objectives

At the scoping meetings, staff will: (1) Summarize the environmental issues tentatively identified for analysis in the EA; (2) solicit from the meeting participants all available information, especially quantifiable data, on the resources at issue; (3) encourage statements from experts and the public on issues that should be analyzed in the EA, including view points in opposition to, or in support of, the staff's preliminary views; (4) determine the resource issues to be addressed in the EA; and (5) identify those issues that require a detailed analysis, as well as those issues that do not require a detailed analysis.

The meetings will be recorded by a stenographer and will become part of the formal record of the Commission proceeding on the project. Individuals presenting statements at the meetings will be asked to sign in before the meeting starts and to clearly identify themselves for the record.

Individuals, organizations, and agencies with environmental expertise and concerns are encouraged to attend the meetings and to assist staff in defining and clarifying the issues to be addressed in the EA.

David P. Boergers,
Secretary.

[FR Doc. 01-11481 Filed 5-7-01; 8:45 am]

BILLING CODE 6717-01-M